DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Multispecies Amendment 16.

OMB Control Number: 0648-0605.

Form Number(s): None.

Type of Request: Emergency revision of a currently approved information collection. Per the Paperwork Reduction Act regulations, 5 CFR 1320.13, we believe that use of this emergency process is essential to the mission of the agency, and the agency cannot reasonably comply with the normal clearance procedures under this part because public harm is reasonably likely to result if normal clearance procedures are followed.

Number of Respondents: 100.

Average Hours per Response: The daily catch report is estimated to take 15 minutes to complete.

Burden Hours: Based on trips to multiple broad stock areas taken during the 2013 fishing year, the average trip length for vessels that fish in multiple broad stock areas on a single trip is 5 days. If vessels take 7 trips per year, the burden estimate for daily trip reports is 8 hr, 45 min.

Needs and Uses: This is a request for comments on the proposed revision of OMB Control No. 0648-0605, the Information Collection for Amendment 16 to the Northeast Multispecies Fishery Management Plan, in conjunction with Final Rule 0648-BE75. The information collection currently approved under OMB Control No. 0648-0605 includes a number of reporting requirements necessary to end overfishing, rebuild overfished groundfish stocks, and mitigate the adverse economic impacts of increased effort controls. This revision proposes to modify only the broad stock area reporting requirements currently approved under the Information Collection for Amendment 16. We are seeking comments on a provision that, if approved, would require vessels that declare trips into the Gulf of Maine Broad Stock Area and any other broad stock area (i.e., Georges Bank or Southern New England) on the same trip submit a daily catch report via vessel monitoring system (VMS). We have determined the daily VMS trip reports may be necessary to ensure accurate apportionment catch and help enforcement efforts. Vessels are currently required to submit trip level catch reports when declared into multiple broad stock areas, so the proposed change would affect only the frequency of submission.

Affected Public: Businesses and other for-profit organizations; individuals or households.

Frequency: On occasion, but daily submission would be required on trips declared into multiple broad stock areas.

Respondent's Obligation: Mandatory.

This information collection request may be viewed at reginfo.gov. Follow the instructions to view Department of Commerce collections currently under review by OMB.

Written comments and recommendations for the proposed information collection should be sent within 10 days of publication of this notice to OIRA_Submission@omb.eop.gov or fax to (202) 395-5806.

Dated: April 10, 2015.
Sarah Brabson,
NOAA PRA Clearance Officer.

[FR Doc. 2015-08667 Filed 4-13-15; 8:45 am]

BILLING CODE 3510-22-P